DEPARTMENT OF HEALTH AND HUMAN SERVICES

Health Resources and Services Administration

Agency Information Collection Activities: Submission to OMB for Review and Approval; Public Comment Request; National Survey of Organ Donation Attitudes and Practices, OMB No. 0915-0290—Reinstatement With Change

AGENCY: Health Resources and Services Administration (HRSA), Department of Health and Human Services.

ACTION: Notice.

SUMMARY: In compliance with the Paperwork Reduction Act of 1995, HRSA has submitted an Information Collection Request (ICR) to the Office of Management and Budget (OMB) for review and approval. The ICR is for reinstatement with change of a previously approved information collection, assigned OMB control number 0915-0290, which expired on March 31, 2015. Comments submitted during the first public review of this ICR will be provided to OMB. OMB will accept further comments from the public during the review and approval period.

DATES: Comments on this ICR should be received no later than July 26, 2018.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: National Survey of Organ Donation Attitudes and Practices, OMB No. 0915-0290—Reinstatement with Change.

Abstract: HRSA is requesting approval from OMB for reinstatement with change of a previously approved collection of information (OMB control number 0915-0290). The National Survey of Organ Donation Attitudes and Practices (NSODAP) is conducted approximately every 6-7 years and serves a critical role in providing HRSA and the donation community with data regarding why Americans choose to donate organ, current barriers to donation, and potential new approaches to increasing donations. Survey data and derived analytic insights inform HRSA's public outreach and educational initiatives. HRSA is improving the quality and relevance of the data collected by making the following changes:

(1) HRSA is increasing the ability to produce more precise results by targeting 10,000 completed surveys (increased from 3,250 in 2012). This increase will allow for a more accurate and robust analysis of the attitudes and donation practices of important subgroups such as Americans over the age of 50 and various minority populations. Although the precision of the results from the survey will increase, the respondent burden will be reduced, and survey completion costs will be lower resulting in a cost neutral change.

(2) HRSA is streamlining the data collection process to minimize respondent burden. Of the 10,000 targeted completed surveys, 8,000 will be completed online by a nationally representative web panel composed of Americans over the age of 18 who have already agreed to participate in a survey. Web panels target a representative section of a population used by other approved surveys. HRSA will complete the remaining 2,000 surveys by telephone. In 2012, all 3,250 surveys were conducted by telephone and respondents were contacted using random-digit dialing, a process that yielded a low response rate. Contacting respondents by telephone will remain a part of the survey protocol to compare current data to the 2012 data. However, for this survey, identification of a sample of adults over the age of 18 for a telephone survey will be from a national list of home addresses. Before contact, those selected for the telephone survey will receive a mailed pre-notification letter with information about the survey. This mailing will improve survey cooperation and reduce the number of people contacted for the survey. Additionally, it is more time and cost effective to take the survey online than taking the survey by phone as the average response will be 0.1 hour shorter, and the cost of an online survey can range $3-$4 per survey compared to $50-$100 for a high-quality phone survey.

(3) To improve the relevance of the data collected and in response to the comments received during the 60-day public comment period, HRSA revised the instrument to add, remove, or edit a few questions. Example changes include removing certain questions that were only relevant for a random-digit-dialing sample design, editing certain questions to add clarity, and adding questions to highlight emerging topics such as receiving organ donation information through a hand-held device or mobile apps.

Need and Proposed Use of the Information: HRSA is the primary federal entity responsible for oversight of organ and blood stem cell transplant systems and initiatives to increase organ donor registration and donation in the United States. This survey is the primary method by which HRSA can obtain information from Americans about organ donation attitudes and beliefs. OMB previously approved this survey, and HRSA fielded it during 2005 and 2012. HRSA uses the resulting information from the survey to inform practice, policy, and other public awareness and education activities related to organ donation and transplantation. This type of information is essential for planning, targeting, and implementing outreach efforts to increase public donation commitment as well as for tracking the results of such efforts over time. Members of the donation and transplantation community also make use of the findings of the survey in their outreach efforts and research efforts. Increasing the number of completed cases via a web panel for online survey completion and modifying the survey instrument without increasing the survey length will dramatically improve the quality and precision of the results while minimizing respondent burden as much as possible. The modified instrument and survey fielding methods will allow research on the attitudes and behaviors of important subgroups of Americans as well as research on emerging topics related to organ donation.

Likely Respondents: A nationally representative sample of adults over the age of 18 with a high number of responses from populations of interest such as racial-ethnic minorities, including African American, Asian, Native American, and Hispanic respondents, as well as respondents of all age groups and education levels.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
National Survey of Organ Donation Attitudes and Practices—Telephone (English and Spanish Versions) | 2,000 | 1 | 2,000 | .37 | 740
National Survey of Organ Donation Attitudes and Practices—Web Online Panel (English and Spanish Versions) | 8,000 | 1 | 8,000 | .27 | 2,160
Total | 10,000 |  | 10,000 |  | 2,900

Amy P. McNulty,
Acting Director, Division of the Executive Secretariat.

[FR Doc. 2018-13590 Filed 6-25-18; 8:45 am]

BILLING CODE 4165-15-P